FEDERAL COMMUNICATIONS COMMISSION

Federal Advisory Committee Act; Independent Panel Reviewing the Impact of Hurricane Katrina on Communications Networks

AGENCY: Federal Communications Commission.

ACTION: Notice of public meeting.

SUMMARY: In accordance with the Federal Advisory Committee Act, this notice advises interested persons that the Federal Communications Commission's (“FCC”) Independent Panel Reviewing the Impact of Hurricane Katrina on Communications Networks (“Independent Panel” or “Panel”) will hold its final meeting on June 9, 2006 at 10 a.m. at the Commission Meeting Room of the FCC, 445 12th Street, SW., Room TW-C305, Washington, DC 20554.

DATES: June 9, 2006 at 10 a.m.

ADDRESSES: Commission Meeting Room, FCC, 445 12th Street, SW., Room TW-C305, Washington, DC 20554.

FOR FURTHER INFORMATION CONTACT: Lisa M. Fowlkes, Designated Federal Officer of the FCC's Independent Panel at 202-418-7452 or e-mail: lisa.fowlkes@fcc.gov.

SUPPLEMENTARY INFORMATION: The Panel will consider and vote on a report that addresses the impact of Hurricane Katrina on communications infrastructure, including public safety communications, and includes recommendations for improving disaster preparedness, network reliability and communications among first responders (“Panel Report”). The Panel Report is due to the FCC by June 15, 2006. As part of its consideration, the Panel may vote on proposed amendments to the Panel Report, if any.

Members of the general public may attend the meeting. The FCC will attempt to accommodate as many people as possible. However, admittance will be limited to seating availability. Real Audio access to the meeting will be available at http://www.fcc.gov. Open captioning will be provided for this event. Other reasonable accommodations for people with disabilities are available upon request. To request accommodations, send an e-mail to fcc504@fcc.gov or call the Consumer & Governmental Affairs Bureau at 202-418-0530 (voice), 202-418-0432 (TTY). Include a description of the accommodation you will need with as much detail as possible. Also include a way we can contact you if we need more information. Please allow at least five days advance notice; last minute requests will be accepted, but may be impossible to fill.

The public may submit written comments before the meeting to: Lisa M. Fowlkes, the FCC's Designated Federal Officer for the Independent Panel at: lisa.fowlkes@fcc.gov or by U.S. Postal Service Mail (Lisa M. Fowlkes, Designated Federal Officer, Hurricane Katrina Independent Panel, Federal Communications Commission, 445 12th Street, SW., Room 7-C737, Washington, DC 20554). Publicly available documents regarding the Independent Panel are available for inspection and copying at the FCC's Public Reference Center, 445 12th Street, SW., Room CY-A257, Washington, DC 20554. Further information about the Independent Panel may also be found on the Panel's Web site at http://www.fcc.gov/eb/hkip.

Federal Communications Commission.
Marlene H. Dortch,
Secretary.

[FR Doc. E6-7843 Filed 5-23-06; 8:45 am]

BILLING CODE 6712-01-P